FEDERAL HOUSING FINANCE BOARD

[No. 2000-N-7]

Submission for OMB Review; Comment Request

AGENCY: Federal Housing Finance Board.

ACTION: Notice.

SUMMARY: In accordance with the requirements of the Paperwork Reduction Act of 1995, the Federal Housing Finance Board (Finance Board) hereby gives notice that it has submitted the information collection entitled “Federal Home Loan Bank Acquired Member Assets, Core Mission Activities, Investments and Advances” to the Office of Management and Budget (OMB) for review and approval of a three-year extension of the OMB control number, which is due to expire on December 31, 2000.

DATES: Interested persons may submit comments on or before January 17, 2001.

ADDRESSES: Submit comments to the Office of Information and Regulatory Affairs of OMB, Attention: Desk Officer for the Federal Housing Finance Board, Washington, DC 20503. Address requests for copies of the information collection and supporting documentation to Elaine L. Baker, Secretary to the Board, by telephone at 202/408-2837, by electronic mail at bakere@fhfb.gov, or by regular mail at the Federal Housing Finance Board, 1777 F Street, NW., Washington, DC 20006.

FOR FURTHER INFORMATION CONTACT: Eric M. Raudenbush, Senior Attorney-Advisor, Office of General Counsel, by telephone at 202/408-2932, by electronic mail at raudenbushe@fhfb.gov, or by regular mail at the Federal Housing Finance Board, 1777 F Street, N.W., Washington, D.C. 20006.

SUPPLEMENTARY INFORMATION:

A. Need For and Use of Information Collection

In July 2000, the Finance Board promulgated a final rule that, among other things, authorizes the Federal Home Loan Banks (Banks), on a permanent program basis, to acquire residential mortgage loans from or through their members and housing associates and to hold these mortgages as investments. See 65 FR 43969 (July 17, 2000). The regulations governing the acquisition of these mortgages, known as “acquired member assets,” or “AMA,” are now codified in part 955 of the Finance Board's regulations. 12 CFR part 955. Under this AMA regulation, Banks engaging in AMA transactions are required to collect and maintain, and report to the Finance Board on a quarterly basis, certain loan-level data on each residential mortgage held. See 12 CFR 955.4. While this data is provided directly to the Finance Board by the Banks (which are government-sponsored enterprises), each Bank must initially collect the information from the private-sector member or housing associate institution from which the Bank acquires the mortgage.

Under the Federal Home Loan Bank Act (Bank Act), the Finance Board is charged with the duty to “ensure that the * * * Banks carry out their housing finance mission.” 12 U.S.C. 1422a(a). The Bank Act also authorizes the Finance Board to promulgate and enforce such regulations and orders as are necessary * * * to carry out the provisions” of the Bank Act. Id. 1422b(a)(1). The Finance Board believes that the loan-level data reporting is essential in order to monitor the extent to which the Banks are fulfilling their statutory housing finance mission through their AMA programs.

The Finance Board uses the information collection to create a database and reporting infrastructure for monitoring the Banks' achievement of the public purpose of their residential mortgage purchase programs on a par with that currently imposed on entities entering into secondary mortgage market transactions with the other housing government-sponsored enterprises (i.e., Fannie Mae and Freddie Mac).

The OMB number for the information collection is 3069-0058. The OMB clearance for the information collection expires on December 31, 2000.

The likely respondents and/or recordkeepers include the Banks, institutions that are members or housing associates of a Bank and the Finance Board.

B. Burden Estimate

The estimated annual reporting and recordkeeping hour burden is:

a. Number of respondents—412.

b. Total annual responses—1600.

Percentage of these responses collected electronically—75%.

c. Total annual hours requested—38,632.

d. Current OMB inventory—264,400.

e. Difference—(225,768).

The estimated annual reporting and recordkeeping cost burden is:

a. Total annualized capital/startup costs—$300,000.00.

b. Total annual costs (O&M)—0.

c. Total annualized cost requested—$1,196,768.72.

d. Current OMB inventory $2,524,697.92.

e. Difference—($1,327,929.20).

C. Comment Request

In accordance with the requirements of 5 CFR 1320.8(d), the Finance Board published a request for public comments regarding the information collection as part of the final AMA rulemaking, which appeared in the Federal Register on July 17, 2000. See 65 FR 43969 (July 17, 2000). The 60-day comment period closed on September 15, 2000. The Finance Board received no public comments. Written comments are requested on: (1) Whether the collection of information is necessary for the proper performance of Finance Board functions, including whether the information has practical utility; (2) the accuracy of the Finance Board's estimates of the burdens of the collection of information; (3) ways to enhance the quality, utility, and clarity of the information collected; and (4) ways to minimize the burden of the collection of information on respondents, including through the use of automated collection techniques or other forms of information technology. Comments may be submitted to OMB in writing at the address listed above.

By the Federal Housing Finance Board.
Dated: December 1, 2000.
James L. Bothwell,
Managing Director.

[FR Doc. 00-32110 Filed 12-15-00; 8:45 am]

BILLING CODE 6725-01-P